NATIONAL TRANSPORTATION SAFETY BOARD

Sunshine Act Meeting

AGENDA

TIME AND DATE: 9:30 a.m., Tuesday, July 14, 2015.

PLACE: NTSB Conference Center, 429 L'Enfant Plaza SW., Washington, DC 20594.

STATUS: The two items are open to the public.

MATTERS TO BE CONSIDERED:

8710 Aircraft Accident Report—Steep Climb and Uncontrolled Descent During Takeoff, National Air Cargo, Inc., dba National Airlines, Boeing 747-400 BCF, N949CA, Bagram, Afghanistan, April 29, 2013.

8590A Highway Accident Report—Truck-Tractor Double Trailer Median Crossover Collision With Motorcoach and Postcrash Fire on Interstate 5, Orland, California, April 10, 2014.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, July 8, 2015.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss, (202) 314-6100 or by email at eric.weiss@ntsb.gov for the Bagram, Afghanistan accident, and Keith Holloway, (202) 314-6100 or by email at hollowk@ntsb.gov for the Orland, CA accident.

Dated: Friday, June 26, 2015.
Candi R. Bing,
Federal Register Liaison Officer.

[FR Doc. 2015-16127 Filed 6-26-15; 11:15 am]

BILLING CODE 7533-01-P